FEDERAL COMMUNICATIONS COMMISSION

47 CFR Part 25

[IB Docket No. 21-456; FCC 23-29 and FCC 24-117; FR ID 306277]

Revising Spectrum Sharing Rules for Non-Geostationary Orbit, Fixed-Satellite Service Systems

AGENCY: Federal Communications Commission.

ACTION: Final rule; announcement of effective date.

SUMMARY: In this document, the Federal Communications Commission (Commission) announces that the Office of Management and Budget has approved new information collection requirements under OMB Control Number 3060-0678, as adopted in the Commission's Report and Order, FCC 23-29, and revised in the Commission's Second Report and Order, FCC 24-117.

DATES: Amendatory instruction 3 (47 CFR 25.261), published at 90 FR 7651 on January 22, 2025, is effective July 31, 2025.

FOR FURTHER INFORMATION CONTACT: Cathy Williams, Office of the Managing Director, Federal Communications Commission, at (202) 418-2918 or Cathy.Williams@fcc.gov.

SUPPLEMENTARY INFORMATION: This document announces that the Office of Management and Budget (OMB) approved the information collection requirements in 47 CFR 25.261 on July 17, 2025. The Commission publishes this document as an announcement of the effective date for this amended rule.

Synopsis

As required by the Paperwork Reduction Act of 1995 (44 U.S.C. 3507), the Commission is notifying the public that it received final OMB approval on July 17, 2025, for the information collection requirements contained in 47 CFR 25.261. Under 5 CFR part 1320, an agency may not conduct or sponsor a collection of information unless it displays a current, valid OMB Control Number.

No person shall be subject to any penalty for failing to comply with a collection of information subject to the Paperwork Reduction Act that does not display a current, valid OMB Control Number. The OMB Control Number for the information collection that includes the requirements in 47 CFR 25.261 is 3060-0678.

The foregoing notice is required by the Paperwork Reduction Act of 1995, Public Law 104-13, October 1, 1995, and 44 U.S.C. 3507.

The total annual reporting burdens and costs for the respondents are as follows:

OMB Control Number: 3060-0678.

Title: Part 25 of the Federal Communications Commission's Rules Governing the Licensing of, and Spectrum Usage by, Commercial Earth Stations and Space Stations.

OMB Approval Date: July 17, 2025.

OMB Expiration Date: July 31, 2028.

Form Numbers: FCC Form 312, FCC Form 312-EZ, FCC Form 312-R and Schedules A, B and S.

Respondents: Business or other for-profit entities and not-for-profit institutions.

Number of Respondents and Responses: 3,539 respondents; 3,591 responses.

Estimated Hours per Response: 0.5-80 hours per response.

Frequency of Response: On occasion, one time, and annual reporting requirements; third-party disclosure requirements; recordkeeping requirement.

Total Annual Burden: 27,748 hours.

Total Annual Cost: $4,154,267.

Obligation to Respond: Required to obtain or retain benefits. The Commission has statutory authority for the information collection requirements under 47 U.S.C. 154, 301, 302, 303, 307, 309, 310, 319, 332, 605, and 721.

Needs and Uses: On April 21, 2023, the Commission released a Report and Order, FCC 23-29, IB Docket No. 21-456, titled “Revising Spectrum Sharing Rules for Non-Geostationary Orbit, Fixed-Satellite Service Systems.” In this Report and Ordrghrer, the Commission revised its rules governing spectrum sharing among a new generation of broadband satellite constellations to promote market entry, regulatory certainty, and spectrum efficiency through good-faith coordination. As relevant to this information collection, the Commission adopted rules clarifying protection obligations between non-geostationary satellite orbit, fixed-satellite service (NGSO FSS) systems authorized through different processing rounds by using a degraded throughput methodology. Specifically, the Commission required that, prior to commencing operations, an NGSO FSS licensee or market access recipient must either certify that it has completed a coordination agreement with any operational NGSO FSS system licensed or granted U.S. market access in an earlier processing round, or submit for Commission approval a compatibility showing which demonstrates by use of a degraded throughput methodology that it will not cause harmful interference to any such system with which coordination has not been completed. If an earlier-round system becomes operational after a later-round system has commenced operations, the later-round licensee or market access recipient must submit a certification of coordination or a compatibility showing with respect to the earlier-round system no later than 60 days after the earlier-round system commences operations.

Further, on November 15, 2024, the Commission released a Second Report and Order in the same rulemaking proceeding, FCC 24-117, IB Docket No. 21-456, titled “Revising Spectrum Sharing Rules for Non-Geostationary Orbit, Fixed-Satellite Service Systems.” In this Second Report and Order, the Commission revised the NGSO FSS sharing rules to clarify certain details of the degraded throughput methodology that, in the absence of a coordination agreement, must be used in compatibility analyses by NGSO FSS system grantees authorized through later processing rounds to show they can operate compatibly with, and protect, NGSO FSS systems authorized through earlier processing rounds. The Commission adopted a 3% time-weighted average throughput degradation as a long-term interference protection criterion and a 0.4% absolute increase in link unavailability as a short-term interference protection criterion.

The relevant rule for purposes of this revised information collection is 47 CFR 25.261(d).

The new information collection requirements in this collection are needed to determine the technical qualifications of licensees and market access grantees to operate an NGSO FSS space station and to determine whether operations under an NGSO FSS authorization serve the public interest, convenience and necessity. Without such information, the Commission could not determine whether to permit respondents to provide communications services in the United States because it could not assure that incumbent NGSO FSS licensees and market access grantees are adequately protected from radiofrequency interference that could be caused by NGSO FSS satellite systems authorized through a later processing round. Therefore, the Commission would not be able to fulfill its statutory responsibilities in accordance with the Communications Act of 1934, as amended, and the obligations imposed on parties to the World Trade Organization Basic Telecommunications Agreement.

Federal Communications Commission.
Marlene Dortch,
Secretary.

[FR Doc. 2025-14506 Filed 7-30-25; 8:45 am]

BILLING CODE 6712-01-P